ENVIRONMENTAL PROTECTION AGENCY

[EPA-HQ-OW-2040-0299; FRL-11641-01-OMS]

Agency Information Collection Activities; Submission to the Office of Management and Budget for Review and Approval; Comment Request; Use of Lead Free Pipes, Fittings, Fixtures, Solder and Flux for Drinking Water (Renewal)

AGENCY: Environmental Protection Agency (EPA).

ACTION: Notice.

SUMMARY: The Environmental Protection Agency (EPA) is planning to submit an information collection request (ICR), Use of Lead Free Pipes, Fittings, Fixtures, Solder and Flux for Drinking Water (EPA ICR Number 2563.02, OMB Control Number 2040-0299) to the Office of Management and Budget (OMB) for review and approval in accordance with the Paperwork Reduction Act. This is a proposed extension of the ICR, which is currently approved through December 31, 2023. Public comments were previously requested via the Federal Register on July 11, 2023 during a 60-day comment period. This notice allows for an additional 30 days for public comments.

DATES: Comments may be submitted on or before January 29, 2024.

ADDRESSES: Submit your comments, referencing Docket ID No. EPA-HQ-OW-2040-0299, online using www.regulations.gov (our preferred method), by email to OW-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Kevin Roland, Drinking Water Infrastructure Development Division, Office of Ground Water and Drinking Water, (4606M), Environmental Protection Agency, 1200 Pennsylvania Ave. NW, Washington, DC 20460; telephone number: 202-564-4588: fax number: 202-564-3755; email address: roland.kevin@epa.gov.

SUPPLEMENTARY INFORMATION: This is a proposed extension of the ICR, which is currently approved through December 31, 2023. An agency may not conduct or sponsor and a person is not required to respond to a collection of information unless it displays currently valid OMB control number.

Public comments were previously requested via the Federal Register on July 11, 2023 during a 60-day comment period (88 FR 44129). This notice allows for an additional 30 days of public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Reduction of Lead in Drinking Water Act of 2011 (RLDWA, the Act) modified the technical definition of “lead free” by lowering the maximum lead content of pipes, fittings, and fixtures from 8% to 0.25% and introduced greater complexity to calculating lead free by requiring that level be met based on a weighted average of wetted surfaces. The Act also created exemptions for certain plumbing products from pre-existing lead free requirements. The final rule establishes product certification requirements for products intended for potable use applications in public water systems and residential or non-residential facilities to demonstrate compliance with the lead free requirements. EPA expects that these requirements for lead content in plumbing materials used in new installations and repairs will result in fewer sources of lead in drinking water and, consequently, will reduce adverse health effects associated with exposure to lead in drinking water. Manufacturers with 10 or more employees or importers entering products purchased from or manufactured by manufacturers with 10 or more employees must demonstrate compliance with the lead free definition by obtaining third party certification by an American National Standards Institute (ANSI) accredited, third party certification body. Firms with fewer than 10 employees can use a third party certification body or self-certify that their products conform to the Safe Drinking Water Act's (SDWA) lead free requirements. This self-certification option also extends to custom fabricated products regardless of a manufacturer's number of employees. This rule imposes a burden on states to enforce the statutory provisions in SDWA Section 1417(a)(1), which cross references updated statutory definition of lead free within the meaning of SDWA Section 1417(d) according to the 2011 Reduction of Lead in Drinking Water Act and the 2013 Community Fire Safety Act.

Form Numbers: None.

Respondents/affected entities: Primacy Agencies, Manufacturers of lead-free pipes, fixtures and fittings.

Respondent's obligation to respond: Mandatory for compliance with Reduction of Lead in Drinking Water Act of 2011.

Estimated number of respondents: 2,250 (total).

Frequency of response: Annual.

Total estimated burden: 97,186 hours (per year). Burden is defined at 5 CFR 1320.03(b).

Total estimated cost: $12.2 million (per year), including $7.5 million annualized capital or operation & maintenance costs.

Changes in Estimates: There is an increase of 19,349 hours in the total estimated respondent burden compared with the ICR currently approved by OMB. This increase is a result of shifts in respondent activities required as the rule comes into full effect. Manufacturers have complied with initial requirements to conduct rule familiarization and initial product certifications and are now responsible for recertifications and recordkeeping. In the three-year period covered by this ICR, primacy agencies are responsible for developing and implementing oversight plans. These changes are considered adjustments because the parameters of this overall collection as defined by the September 2020 rule (85 FR 54235) have not been modified.

Courtney Kerwin,
Director, Information Engagement Division.

[FR Doc. 2023-28640 Filed 12-27-23; 8:45 am]

BILLING CODE 6560-50-P